Title 3—

The President

Executive Order 13339 of May 13, 2004

Increasing Economic Opportunity and Business Participation of Asian Americans and Pacific Islanders

By the authority vested in me as President by the Constitution and the laws of the United States of America, and for the purpose of providing equal economic opportunities for full participation of Asian American and Pacific Islander businesses in our free market economy where they may be underserved and thus improving the quality of life for Asian Americans and Pacific Islanders, it is hereby ordered as follows:

Section 1. (a) There is established in the Department of Commerce the President's Advisory Commission on Asian Americans and Pacific Islanders (Commission). The Commission shall consist of not more than 15 members appointed by the President, one of whom shall be designated by the President as Chair. The Commission shall include members who: (i) have a history of involvement with the Asian American and Pacific Islander communities; (ii) are from the business enterprise sector; (iii) are from civic associations representing one or more of the diverse Asian American and Pacific Islander communities; (iv) are from the fields of economic, social, and community development; or (v) have such other experience as the President deems appropriate.

(b) The Secretary of Commerce (Secretary) shall designate an Executive Director for the Commission.

Sec. 2. The Commission shall provide advice to the President, through the Secretary, on:

(a) the development, monitoring, and coordination of executive branch efforts to improve the economic and community development of Asian American and Pacific Islander businesses through ensuring equal opportunity to participate in Federal programs, and public-sector, private-sector partnerships, and through the collection of data related to Asian American and Pacific Islander businesses; and

(b) ways to increase the business diversification of Asian Americans and Pacific Islanders, including ways to foster research and data on Asian American and Pacific Islander businesses including their level of participation in the national economy and their economic and community development.

Sec. 3. (a) The Secretary shall establish within the Department of Commerce an office known as the White House Initiative on Asian Americans and Pacific Islanders (Office). The Office shall provide support for the Commission and the interagency working group created in section 3(b) of this order.

(b) The Secretary shall also create an interagency working group (Working Group) whose activities shall be coordinated by the Department of Commerce. The Secretary shall designate the executive departments and agencies that shall serve on the Working Group (executive departments and agencies) and the heads of those departments and agencies shall select the officials that shall serve as their respective representatives on the Working Group. The Executive Director of the Commission shall also serve as the Director of the Office and the Working Group, and shall report to the Secretary or the Secretary's designee. The Director of the Working Group shall advise the Secretary or the Secretary's designee on efforts by the Federal Government to improve access to economic opportunities, through equal access to such opportunities, for Asian American and Pacific Islander businesses where they may be underserved and thus to improve the quality of life of Asian Americans and Pacific Islanders.

Sec. 4. The head of each executive department and agency on the Working Group shall designate a senior Federal official responsible for management or program administration to report directly to the agency head on activities implementing this order and to serve as a liaison to, and representative on, the Working Group. The Secretary may designate additional Federal officials, with the concurrence of the head of the designated executive department or agency, to carry out functions of the Working Group. To the extent permitted by law and to the extent practicable, each designated executive department and agency shall provide appropriate information requested by the Working Group, including data relating to the eligibility for and participation of Asian American and Pacific Islander businesses in Federal programs. Where adequate data are not available, the Working Group shall suggest the means of collecting such data.

Sec. 5. Each designated executive department and agency shall prepare a plan for, and shall document, its efforts to support economic opportunities for Asian American and Pacific Islander businesses. This plan shall address, among other things, executive branch efforts to:

(a) increase participation in Federal programs for Asian American and Pacific Islander businesses through equal access to such programs;

(b) ensure nondiscrimination in Federal contracts and procurement opportunities;

(c) provide equal opportunity for public-sector, private-sector partnerships for the community and economic development of Asian American and Pacific Islander businesses; and

(d) foster research and data collection on Asian American and Pacific Islander businesses. Each plan shall be submitted through the working group and the Commission to the Secretary at a date to be established by the Secretary.

Sec. 6. The Secretary shall review the plans of the designated executive departments and agencies and develop for submission to the President for his approval an integrated Federal plan (Federal Plan) to increase the participation of Asian American and Pacific Islander businesses in executive branch programs through equal access to such programs where such organizations may be underserved. Actions described in the Federal Plan shall address improving access by Asian American and Pacific Islander businesses to Federal programs and fostering advances in relevant research and data as it pertains to community economic development. The Secretary shall disseminate the Federal Plan, to the extent the Plan is approved by the President, to appropriate members of the executive branch. The findings and recommendations in the Federal Plan shall be followed by the designated executive departments and agencies in their policies and activities, to the extent permitted by law and as practicable.

Sec. 7. Insofar as the Federal Advisory Committee Act, as amended (5 U.S.C. App.) (the “Act”), may apply to the administration of any portion of this order, any functions of the President under the Act, except that of reporting to the Congress, shall be performed by the Secretary in accordance with the guidelines issued by the Administrator of General Services.

Sec. 8. Members of the Commission shall serve without compensation, but shall be allowed travel expenses, including per diem in lieu of subsistence, as authorized by law for persons serving intermittently in the Government service (5 U.S.C. 5701-5707). To the extent permitted by law and appropriations, and where practicable, executive departments and agencies shall, upon request by the Secretary, provide assistance to the Commission and to the Working Group, and the Department of Commerce shall provide administrative support and funding for the Commission.

Sec. 9. The Commission shall terminate 2 years from the date of this order, unless renewed by the President.

Sec. 10. For the purposes of this order, the term: (a) “Asian” includes persons having origins in any of the original peoples of the Far East, Southeast Asia, or the Indian subcontinent; and the term (b) “Pacific Islander” includes persons having origins in any of the original peoples of Hawaii, Guam, Samoa, or other Pacific Islands.

Sec. 11. The Secretary of Commerce shall consult the Attorney General as appropriate on the implementation of this order to ensure that such implementation affords the equal protection of the laws required by the due process clause of the Fifth Amendment to the Constitution.

Sec. 12. This order is not intended to, and does not, create any right or benefit, substantive or procedural, enforceable at law or in equity, by a party against the United States, its departments, agencies, entities, officers, employees or agents, or any other person.

B

THE WHITE HOUSE,

May 13, 2004.

[FR Doc. 04-11271

Filed 5-14-04; 10:17 am]

Billing code 3195-01-P